DEPARTMENT OF DEFENSE

Defense Acquisition Regulations System

48 CFR Part 225

[Docket DARS-2021-0001]

Defense Federal Acquisition Regulation Supplement: Technical Amendment

AGENCY: Defense Acquisition Regulations System, Department of Defense (DoD).

ACTION: Final rule.

SUMMARY: DoD is making a technical amendment to the Defense Federal Acquisition Regulation Supplement (DFARS) to provide a needed editorial change.

DATES: Effective February 24, 2021.

FOR FURTHER INFORMATION CONTACT: Ms. Jennifer D. Johnson, Defense Acquisition Regulations System, OUSD(A&S)DPC(DARS), Room 3B938, 3060 Defense Pentagon, Washington, DC 20301-3060. Telephone 571-372-6100.

SUPPLEMENTARY INFORMATION: This final rule amends the DFARS to update a reference at DFARS 225.872-7 to remove a reference to DoD Industrial Security Regulation DoD 5220.22-R and replace it with the National Industrial Security Program Operating Manual (NISPOM), 32 CFR part 117. On December 21, 2020, DoD issued a final rule in the Federal Register at 85 FR 83300 to codify the NISPOM in the regulations. This change becomes effective February 24, 2021. Accordingly, this DFARS reference is being updated to incorporate this change.

List of Subjects in 48 CFR Part 225

Government procurement.

Jennifer D. Johnson,
Regulatory Control Officer, Defense Acquisition Regulations System.

Therefore, 48 CFR part 225 is amended as follows:

PART 225—FOREIGN ACQUISITION

1. The authority citation for 48 CFR part 225 continues to read as follows:

Authority: 41 U.S.C. 1303 and 48 CFR chapter 1.

225.872-7 [Amended]

2. Amend section 225.872-7 by removing “DoD Industrial Security Regulation DoD 5220.22-R” and adding “National Industrial Security Program Operating Manual, 32 CFR part 117” in its place.

[FR Doc. 2021-00617 Filed 1-14-21; 8:45 am]

BILLING CODE 6820-ep-P